DEPARTMENT OF THE TREASURY

Office of Thrift Supervision

Proposed Agency Information Collection Activities; Comment Request

ACTION: Notice and request for comments.

SUMMARY: The Department of the Treasury, as part of its continuing effort to reduce paperwork and respondent burden, invites the general public and other Federal agencies to comment on proposed and continuing information collections, as required by the Paperwork Reduction Act of 1995, 44 U.S.C. 3507. Today, the Office of Thrift Supervision within the Department of the Treasury solicits comments on its proposed information collection titled Merger Application.

DATES: Submit written comments on or before August 20, 2001.

ADDRESSES: Mail: Send comments to Information Collection Comments, Chief Counsel's Office, Office of Thrift Supervision, 1700 G Street, NW., Washington, DC 20552, Attention 1550-0016.

Delivery: Hand deliver comments to the Guard's Desk, East Lobby Entrance, 1700 G Street, NW., from 9:00 a.m. to 4:00 p.m. on business days, Attention: Information Collection Comments, Chief Counsel's Office, 1550-0016.

Facsimiles: Send facsimile transmissions to FAX Number (202) 906-6518, Attention 1550-0016.

E-Mail: Send e-mails to “infocollection.comments @ots.treas.gov”, Attention 1550-0016, and include your name and telephone number.

Public Inspection: Comments and the related index will be posted on the OTS Internet Site at “www.ots.treas.gov”. In addition, interested persons may inspect comments at the Public Reference Room, 1700 G St. NW., by appointment. To make an appointment, call (202) 906-5922, send an e-mail to , or send a facsimile transmission to (202) 906-7755. (Prior notice identifying the materials you will be requesting will assist us in serving you.) Appointments will be scheduled on business days between 10:00 a.m. and 4:00 p.m. In most cases, appointments will be available the next business day following the date we receive your request.

FOR FURTHER INFORMATION CONTACT: Nadine Washington, Office of Examination Policy, Office of Thrift Supervision, 1700 G Street, NW., Washington, DC 20552, (202) 906-6706.

SUPPLEMENTARY INFORMATION: OTS may not conduct or sponsor an information collection, and respondents are not required to respond to an information collection, unless the information collection displays a currently valid OMB control number. As part of the approval process, we invite comments on the following information collection. Comments should address one or more of the following points:

a. Whether the proposed collection of information is necessary for the proper performance of the functions of OTS;

b. The accuracy of the OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title: Merger Application.

OMB Number: 1550-0016.

Form Number: 1639.

Abstract: The Bank Merger Act and the OTS merger regulations require a savings association that proposes to combine with either another savings association or insured depository to obtain written approval from the OTS.

Current Actions: OTS proposes to renew this information collection with revision.

Type of Review: Renewal.

Affected Public: Business or For Profit.

Estimated Number of Respondents: 21.

Estimated Time Per Respondent: 30 hours.

Estimated Total Annual Burden Hours: 630 hours.

Dated: June 13, 2001.
Deborah Dakin,
Deputy Chief Counsel, Regulations and Legislation.

[FR Doc. 01-15365 Filed 6-18-01; 8:45 am]

BILLING CODE 6720-01-P